DEPARTMENT OF COMMERCE

National Oceanic and Atmospheric Administration

[I.D. 053100B]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of the Standing and Special Stone Crab Scientific and Statistical Committees (SSC).

DATES: The SSC meeting is scheduled to begin at 8:00 a.m. on June 21, 2000 and will conclude by 3:00 p.m.

ADDRESSES: The meeting will be held at the Pier House, 1 Duval Street, Key West, FL 33040; telephone: 305-296-4600.

Council address: Gulf of Mexico Fishery Management Council, 3018 U.S. Highway 301 North, Suite 1000, Tampa, FL 33619.

FOR FURTHER INFORMATION CONTACT: Mr. Wayne Swingle, Executive Director, Gulf of Mexico Fishery Management Council; telephone: 813-228-2815.

SUPPLEMENTARY INFORMATION: The Standing and Special Stone Crab SSC will convene to review an amendment to the Stone Crab Fishery Management Plan (FMP). The Stone Crab amendment proposes to extend the trap certificate program for the commercial stone crab fishery adopted by the state of Florida into the Federal waters off west Florida. The Florida Fish and Wildlife Conservation Commission (FFWCC), after working with the stone crab industry and the Council over the past 4 years, has adopted by rule a trap certificate program that will gradually reduce the number of traps over a 30-year period. The Florida legislature has approved the portion of this program pertaining to licenses and fees. Based on this review, the SSC may make recommendations to the Council for consideration at their meeting in Key Largo, July 10-14, 2000.

At the conclusion of the Stone Crab SSC meeting, the Standing SSC will also review an amendment for a Generic Amendment Addressing the Establishment of Tortugas Marine Reserves, which proposes to establish the Tortugas South marine reserve that will encompass the Riley's Hump mutton snapper spawning aggregation site established by the Council in 1994. The total area of the proposed Tortugas South marine reserve is 60 square nautical miles. The amendment also proposes to create the Tortugas North marine reserve cooperatively with the Florida Keys National Marine Sanctuary (FKNMS) program, the state of Florida, and the National Park system, which will encompass an area of 120 square nautical miles. The portion proposed to be established by the Council is 13 square nautical miles. The Council proposes that marine reserves be established for a period of at least 10 years, during which the ecological benefits of the reserve will be evaluated. The Council also proposes that fishing and anchoring be prohibited within the marine reserves.

Although other non-emergency issues not on the agendas may come before the SSCs for discussion, in accordance with the Magnuson-Stevens Fishery Conservation and Management Act, those issues may not be the subject of formal action during these meetings. Actions of the SSCs will be restricted to those issues specifically identified in the agendas and any issues arising after publication of this notice that require emergency action under Section 305(c) of the Magnuson-Stevens Act, provided the public has been notified of the Council's intent to take action to address the emergency.

Copies of the agenda can be obtained by calling 813-228-2815.

Special Accommodations

This meeting is physically accessible to people with disabilities. Requests for sign language interpretation or other auxiliary aids should be directed to Anne Alford at the Council (see ADDRESSES) by June 7, 2000.

Dated: June 1, 2000.
Richard W. Surdi,
Acting Director, Office of Sustainable Fisheries, National Marine Fisheries Service.

[FR Doc. 00-14364 Filed 6-6-00; 8:45 am]

BILLING CODE 3510-22-F